SECURITIES AND EXCHANGE COMMISSION

[Release No. 34-99671]

Notice of Intention To Cancel Registration of Certain Municipal Securities Dealers Pursuant to Section 15B(c)(3) of the Securities Exchange Act of 1934

March 5, 2024.

Notice is given that the Securities and Exchange Commission (“Commission”) intends to issue an order or orders, pursuant to Section 15B(c)(3) of the Securities Exchange Act of 1934 (“Act”), cancelling the registrations of the municipal securities dealers (hereinafter referred to as “registrants”) whose names appear in the attached Appendix.

Section 15B(c)(3) of the Act provides, in pertinent part, that if the Commission finds that any municipal securities dealer registered under Section 15B is no longer in existence or has ceased to do business as a municipal securities dealer, the Commission, by order, shall cancel the registration of such municipal securities dealer.

The Commission finds that each registrant listed in the attached Appendix has not filed any municipal securities dealer form submissions with the Commission through the Commission's Electronic Data Gathering and Retrieval (“EDGAR”) system since November 2016. Accordingly, the Commission finds that each registrant listed in the attached Appendix either is no longer in existence or has ceased to do business as a municipal securities dealer.

Notice is also given that any interested person may, by April 1, 2024, at 5:30 p.m. eastern time, submit to the Commission in writing a request for a hearing on the cancellation of the registration of any registrant listed in the attached Appendix, accompanied by a statement as to the nature of such person's interest, the reason for such request, and the issues, if any, of fact or law proposed to be controverted, and such person may request to be notified if the Commission should order a hearing thereon. Any such communication should be addressed to the Commission's Secretary at Secretarys-Office@sec.gov with the phrase “Notice of Intention to Cancel Municipal Securities Dealer Registration” in the subject line.

At any time after April 1, 2024, the Commission may issue an order or orders cancelling the registrations of any or all of the registrants listed in the attached Appendix, upon the basis of the information stated above, unless an order or orders for a hearing on the cancellation shall be issued upon request or upon the Commission's own motion. Persons who requested a hearing, or to be advised as to whether a hearing is ordered, will receive any notices and orders issued in this matter, including the date of the hearing (if ordered) and any postponements thereof. Any registrant whose registration is cancelled under delegated authority may appeal that decision directly to the Commission in accordance with Rules 430 and 431 of the Commission's rules of practice (17 CFR 201.430 and 431).

For Further Information Contact: Wade Gallagher, Branch Chief, Registrations Branch, Division of Examinations, 100 F Street NE, Washington, DC 20549, at EXAMSRegistrationsInquiries@sec.gov or at (202) 551-7250.

For the Commission, by the Division of Examinations, pursuant to delegated authority.¹

¹ 17 CFR 200.30-18(j)(3)(i).

Sherry R. Haywood,
Assistant Secretary.

Appendix

Registrant name | SEC ID No.
Alabama Conditional Bank | 086-01333
Capitol City Bank & Trust Co | 086-01340
City National Bank of New Jersey, Municipal Securities Division (a.k.a. City Bank of New Jersey, Municipal Securities Division) | 086-01349
Commonwealth National Bank d/b/a Commonwealth Capital Resource Group | 086-01344
First Partners Bank Investment Division | 086-01341
Liberty Capital Markets | 086-01347
Sterling Investments, a division of Sterling Bank | 086-01321
SunTrust Bank, Municipal Securities Division | 086-01346

[FR Doc. 2024-05033 Filed 3-8-24; 8:45 am]

BILLING CODE 8011-01-P